DEPARTMENT OF HOUSING AND URBAN DEVELOPMENT

[Docket No. FR-7104-N-13; OMB Control No.: 2577-0208]

60-Day Notice of Proposed Information Collection: HOPE VI Implementation and HOPE VI Main Street Programs: Funding and Program Data Collection

AGENCY: Office of the Assistant Secretary for Public and Indian Housing, (PIH), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: November 3, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Dawn Martin, Program Analyst, Department of Housing and Urban Development, 451 7th Street SW, Room 3180, Washington, DC 20410-5000.

FOR FURTHER INFORMATION CONTACT: Dawn Martin, Program Analyst, Department of Housing and Urban Development, 451 7th Street, SW, Washington, DC 20410; email PIH-PRAPublicComments@hud.gov, telephone (202) 402-6488. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Martin.

SUPPLEMENTARY INFORMATION: This notice informs the public that HUD is seeking approval from OMB for the information collection described in Section A.

A. Overview of Information Collection

Title of Information Collection: HOPE VI Implementation and HOPE VI Main Street Programs.

OMB Approval Number: 2577-0208.

Type of Request: Extension of a currently approved collection.

Form Number: HUD-52825-A, HUD-52861, HUD-53001-A.

Description of the need for the information and proposed use: Section 24 of the U.S. Housing Act of 1937, as added by Section 535 of the Quality Housing and Work Responsibility Act of 1998 (Pub. L. 105-276, 112 Stat. 2461, approved October 21, 1998) and revised by the HOPE VI Program Reauthorization and Small Community Main Street Rejuvenation and Housing Act of 2003 (Pub. L. 108-186, 117 Stat. 2685, approved December 16, 2003), established the HOPE VI program for the purpose of making assistance available on a competitive basis to Public Housing Agencies (PHAs) to improve the living environment for public housing residents of severely distressed public housing projects (or portions thereof); and, beginning in Fiscal Year 2004, to rejuvenate the traditional or historic downtown areas of smaller units of local government. Funds were appropriated for competitive HOPE VI Implementation Notices of Funding Opportunity (NOFOs) through Fiscal Year 2011, when the HOPE VI program sunset and was replaced with the Choice Neighborhoods Initiative.

HOPE VI funds are no longer being appropriated, and HOPE VI Main Street funds are being funded through the Choice Neighborhoods Initiative appropriations. In a change from previous years, the Main Street grant program accounts for most of the reporting burden because many HOPE VI grants are now fully completed and closed out. Currently, there are approximately three HOPE VI Implementation grants that remain active and must be monitored by HUD. HUD publishes competitive bi-annual NOFOs for the HOPE VI Main Street program and monitors grants that have been awarded through those NOFOs. These information collections are required in connection with the monitoring of the remaining active HOPE VI Implementation grants and the bi-annual publication on http://www.grants.gov of HOPE VI Main Street NOFOs, contingent upon available funding and authorization, which announce the availability of funds provided in annual appropriations for Section 24 of the Housing Act of 1937, as amended.

Eligible units of local government interested in obtaining HOPE VI Main Street grants are required to submit applications to HUD, as explained in each NOFO. The information conducted in the applications enables HUD to conduct a comprehensive, merit-based selection process in order to identify and select the applications to receive funding. With the use of HUD-prescribed forms, the information collection provides HUD with sufficient information to approve or disapprove applications.

Applicants that are awarded HOPE VI Implementations grants are required to report on a quarterly basis on their Implementation grant revitalization activities. HOPE VI Implementation grantees do this by sending emails to the HUD grant managers. HUD reviews and evaluates the collected information and uses it as a primary tool with which to monitor the status of HOPE VI projects and programs.

Members of affected public: Public Housing Agencies, Units of Local Government.

Estimation of the total number of hours needed to prepare the information collection including number of respondents, frequency of response, and hours of response:

Information collection | Number of respondents | Frequency of response | Responses per annum | Burden hour per response | Annual burden hours | Hourly cost per response | Annual cost
HOPE VI Main Street Application:
Main Street NOFO Narrative Exhibits | 5 | 0.5 | 2.5 | 80 | 200 | ¹ $61 | $12,200
Main Street NOFO 52861 Application Data Sheet | 5 | 0.5 | 2.5 | 5 | 37.5 | 61 | 2,287.5
Main Street NOFO Project Area Map | 5 | 0.5 | 2.5 | 1 | 2.5 | 61 | 152.5
Main Street NOFO Program Schedule | 5 | 0.5 | 2.5 | 4 | 10 | 61 | 610
Main Street NOFO Photographs of site | 5 | 0.5 | 2.5 | 5 | 12.5 | 61 | 762.5
Main Street NOFO Five-year Pro-forma | 5 | 0.5 | 2.5 | 5 | 12.5 | 61 | 762.5
Main Street NOFO Site Plan and Unit Layout | 5 | 0.5 | 2.5 | 10 | 25 | 61 | 1,525
Subtotal | 35 |  | 17.5 |  | 300 |  | 18,300
Non-NOFO Collections:
Quarterly Reporting | 35 | 4 | 140 | 1 | 140 | 61 | 8,540
52825-A HOPE VI Budget updates | 40 | 1 | 40 | 3 | 40 | 61 | 2,440
53001-A Actual HOPE VI Cost Certificate | 55 | 1 | 27.5 | 2 | 27.5 | 61 | 1,677.5
Subtotal | 130 |  | 235 |  | 207.5 |  | 12,657.5
Total Burden | 165 |  | 252.5 |  | 507.5 |  | 30,957.5
¹ Staff filling out these forms typically hold positions equivalent to a Business Operation, Management Analyst positions with an average hourly mean of $61 under the Bureau of Labor Statistics. Therefore, the hourly basic rate used for this calculation is the 2025 hourly mean rate for District of Columbia Management Analyst.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Laura Kunkel,
Acting Director, Office of Policy, Programs, and Legislative Initiatives.

[FR Doc. 2025-16972 Filed 9-3-25; 8:45 am]

BILLING CODE 4210-67-P